DEPARTMENT OF ENERGY

Federal Energy Regulatory Commission

[Docket No. RP04-434-000]

Northwest Pipeline Corporation; Notice of Proposed Changes in Ferc Gas Tariff and Filing of Non-Conforming Service Agreement

August 4, 2004.

Take notice that on August 2, 2004, Northwest Pipeline Corporation (Northwest) tendered for filing as part of its FERC Gas Tariff, Third Revised Volume No. 1, Sixth Revised Sheet No. 373, to become effective September 1, 2004. Northwest also tendered for filing a Rate Schedule TF-1 non-conforming service agreement.

Northwest states that the purpose of this filing is to: (1) Submit a Rate Schedule TF-1 service agreement containing contract-specific operational flow order provisions that do not conform to the Rate Schedule TF-1 form of service agreement contained in Northwest's tariff; (2) add this agreement to the list of non-conforming service agreements in Northwest's tariff; and (3) remove a service agreement due to termination from the list of non-conforming service agreements in Northwest's tariff.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1780 Filed 8-10-04; 8:45 am]

BILLING CODE 6717-01-P